INTERNATIONAL TRADE COMMISSION

[USITC SE-08-028]

Government in the Sunshine Act Meeting Notice

Agency Holding The Meeting: United States International Trade Commission.

Time And Date: October 21, 2008 at 11 a.m.

Place: Room 101, 500 E Street SW., Washington, DC 20436, Telephone: (202) 205-2000.

Status: Open to the public.

Matters To Be Considered:

1. Agenda for future meetings: none.

2. Minutes.

3. Ratification List.

4. Inv. Nos. 731-TA-1131-1134 (Final)(Polyethylene Terephthalate Film, Sheet, and Strip from Brazil, China, Thailand, and the United Arab Emirates)—briefing and vote. (The Commission is currently scheduled to transmit its determinations and Commissioners' opinions to the Secretary of Commerce on or before October 31, 2008.)

5. Outstanding action jackets: none.

In accordance with Commission policy, subject matter listed above, not disposed of at the scheduled meeting, may be carried over to the agenda of the following meeting.

By order of the Commission.
Issued: October 14, 2008.
William R. Bishop,
Hearings and Meetings Coordinator.

[FR Doc. E8-24769 Filed 10-16-08; 8:45 am]

BILLING CODE 7020-02-P